DEPARTMENT OF EDUCATION

[Catalog of Federal Domestic Assistance Number: 84.220A, 84.229A, 84.015A, and 84.016A]

Authorization of Subgrants

AGENCY: Office of Postsecondary Education, Department of Education.

ACTION: Notice.

SUMMARY: Pursuant to the Education Department General Administrative Regulations, this notice authorizes institutions of higher education and consortia of institutions of higher education that are grant recipients under the Centers for International Business Education (CIBE) Program (CFDA 84.220A), Language Resource Centers (LRC) Program (CFDA 84.229A), National Resource Centers (NRC) Program (CFDA 84.015A), and the Undergraduate International Studies and Foreign Language (UISFL) Program (CFDA 84.016A) to make subgrants, subject to the limitations described in this notice. The subgrants must support project activities, including, but not limited to, the development of international business training programs, the development of area studies, international studies, and world language courses, teacher training workshops, the dissemination of instructional materials, faculty development opportunities, and outreach.

DATES: Effective: June 3, 2015.

FOR FURTHER INFORMATION CONTACT: Cheryl E. Gibbs, U.S. Department of Education, 1990 K Street NW., Room 6087, Washington, DC 20006. Telephone: (202) 502-7634 or by email: cheryl.gibbs@ed.gov.

If you use a telecommunications device for the deaf (TDD) or a text telephone (TTY), call the Federal Relay Service (FRS), toll free, at 1-800-877-8339.

SUPPLEMENTARY INFORMATION:

Purpose of Programs: Through Title VI, Part A and Part B of the Higher Education Act of 1965, as amended (HEA), eligible institutions of higher education or consortia of institutions of higher education receive funding to implement projects to strengthen institutional and national capacity in area studies, international studies, world languages, and the international context in which business is transacted. Institutions design and implement projects to meet the goal of producing graduates and trained personnel with knowledge and expertise in area and international studies, world languages, and international business.

Parts A and B of Title VI of the HEA do not authorize grantees to make subgrants. Through this notice, pursuant to 34 CFR 75.708(b), we authorize grantees under the CIBE, NRC, LRC, and UISFL programs to make subgrants under certain circumstances.

Program Authority: 20 U.S.C. 1122, 1123, 1124, 1130-1, and 1132-1137.

Applicable Regulations: (a) The Education Department General Administrative Regulations 34 CFR parts 75, 77, 79, 82, 86, 97, 98, 99. (b) The OMB Guidelines to Agencies on Government wide Debarment and Suspension (Nonprocurement) in 2 CFR part 180, as adopted and amended as regulations of the Department in 2 CFR part 3485, and the Uniform Administrative Requirements, Cost Principles, and Audit Requirements for Federal Awards in 2 CFR part 200, as adopted and amended in 2 CFR part 3474. (c) The International Education Programs—General Provisions in 34 CFR part 655. (d) The NRC Program regulations in 34 CFR part 656. (e) The LRC Program regulations in 34 CFR part 658. (f) The UISFL Program regulations in 34 CFR part 669.

Eligible Entities for Subgrants: Eligible entities for subgrants are the non-Federal entities with whom the HEA, Title VI grantee institutions are in collaboration with to conduct the activities in the Title VI funded applications. The non-Federal entities or subrecipients include, but are not limited to, community colleges, Minority-Serving Institutions, local educational agencies, State educational agencies, school districts, and elementary, middle, or secondary schools. An individual at a non-Federal entity who receives a benefit from the CIBE, LRC, NRC or UISFL program does not qualify as an eligible subrecipient.

Discussion: International and Foreign Language Education (IFLE), Office of Postsecondary Education authorizes grantees to make subgrants to support a more efficient, effective, and seamless delivery of international education activities to non-Federal entities. These include activities to meet the fiscal year 2014 competitive preference priorities through which grantees establish partnerships with community colleges, Minority-Serving Institutions, and teacher education programs, in addition to the other activities identified in the HEA and program regulations. The current absence of subgranting authority limits the extent to which the program grantees and non-Federal entities can collaborate to conduct the activities described in funded applications.

Requirements: Grantees in the CIBE, NRC, LRC, and UISFL programs may make subgrants only to directly carry out project activities described in their applications. Consistent with 34 CFR 75.708(d), grantees must ensure that subgrants are awarded on the basis of the approved budget that is consistent with the grantee's approved application and all applicable Federal statutory, regulatory, and other requirements. Grantees under these programs must ensure that every subgrant includes any conditions required by Federal statutes and executive orders and their implementing regulations. Grantees must ensure that subgrantees are aware of the requirements imposed upon them by Federal statutes and regulations, including the Federal anti-discrimination laws in 34 CFR 75.500 and enforced by the Department.

Note: This notice does not solicit applications.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Dated: May 29, 2015.
Jamienne S. Studley,
Deputy Under Secretary.

[FR Doc. 2015-13481 Filed 6-2-15; 8:45 am]

BILLING CODE 4000-01-P